ENVIRONMENTAL PROTECTION AGENCY

40 CFR Part 52

[MD011/108-3056a; FRL-7040-8]

Approval and Promulgation of Air Quality Implementation Plans; Maryland; Revisions to the Control of Iron and Steel Production Installations

AGENCY: Environmental Protection Agency (EPA).

ACTION: Direct final rule.

SUMMARY: EPA is taking direct final action to approve revisions to the Maryland State Implementation Plan (SIP). The revisions consist of amendments to the applicable test methods for use at iron and steel facilities. The revisions also establish a visible emission standard for Basic Oxygen Furnace (BOF) Shops at integrated steel mills. Finally the revisions remove certain obsolete requirements related to coke ovens and hearth furnaces. These SIP revisions were submitted by the Maryland Department of the Environment (MDE) on April 2, 1992 and October 10, 2000. EPA is approving these revisions to the Maryland SIP in accordance with the requirements of the Clean Air Act.

DATES: This rule is effective on November 6, 2001 without further notice, unless EPA receives adverse written comment by October 9, 2001. If EPA receives such comments, it will publish a timely withdrawal of the direct final rule in the Federal Register and inform the public that the rule will not take effect.

ADDRESSES: Written comments should be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; Maryland Department of the Environment, 2500 Broening Highway, Baltimore, Maryland, 21224.

FOR FURTHER INFORMATION CONTACT: Ruth E. Knapp, (215) 814-2191, or by e-mail at knapp.ruth@epa.gov.

SUPPLEMENTARY INFORMATION: Throughout this document wherever “we,” “us” or “our” are used we mean EPA.

Table of Contents

I. What is EPA Approving?

II. What new stack test methods will apply to these iron and steel installations?

III. What visible emission test methods are going to apply to iron and steel installations?

IV. What is the visible emission limit for the BOF shop?

V. How often will compliance with the opacity standard for the BOF shop be determined?

VI. What regulations are being removed because they are obsolete?

VII. What are the environmental effects of this action?

VIII. EPA Rulemaking Action

IX. Administrative Requirements

I. What Is EPA Approving?

We are approving as a SIP revision the use of the stack testing methods for particulates and sulfur oxides, and the test methods for visible emission tests contained in Supplement 3 of the Maryland document Technical Memorandum 91-01 Test Methods and Equipment Specifications for Stationary Sources (TM-91) for use at iron and steel facilities in Maryland. This reference can be found in COMAR 26.11.10.06 (formerly COMAR 26.11.10.07). COMAR 26.11.01 General Administrative Provisions is also being revised to refer to TM-91. TM-91 is incorporated by reference in COMAR 26.11.01.04C and this reference may now refer to Supplement 3 of TM-91 which contains the new visible emissions test method for the BOF shop. In addition we are approving as a SIP revision a visible emission standard for basic oxygen furnace shops (BOF) and the removal of obsolete regulations regarding hearth shops and coke ovens in COMAR 26.11.10 Control of Iron and Steel Production Installations.

II. What New Stack Test Methods Will Apply to These Iron and Steel Installations?

The stack test methods in the Air Management Administration Technical Memorandum: Stack Test Methods for Stationary Sources (June 1983) are being replaced by the Federally enforceable updated methods found in TM-91. These Federally enforceable methods are Method 5 for particulates, and Method 8 for sulfur oxides as found in 40 CFR part 60, appendix A.

III. What Visible Emission Test Methods Are Going To Apply to Iron and Steel Installations?

Several of the visible emission test methods that currently apply to these facilities will continue to apply. The following methods found in AMA-TM 81-04 Procedures for Observing and Evaluating Visible Emissions from Stationary Sources (the current SIP approved visible test method document) are also found in TM-91: Method 9 Determination of Visible Emissions from Stationary Sources; and Methods 9H Determination of the Opacity of Visible Fugitive Emissions from the “G”, “H” , “J” and “K” Blast Furnace Casthouses; Method 9I Determination of the Opacity of Visible Fugitive Emissions from the “L” Blast Furnace Casthouses; and Method 9J Determination of Opacity of Visible Fugitive Emissions from the No. 7 Sinter Plant. These methods are contained in Supplement 3 of TM 91-01 with the following identification: Method 1004, Methods 1004 F-H respectively. They have essentially been included in TM-91 without substantive changes. However Supplement 3 of TM-91 include one new method, Method 1004I that has not previously been included in the State Implementation Plan. Method 1004I was specifically developed to be used in conjunction with the opacity standard developed for BOF shops and currently only applies to BOF shops at Bethlehem Steel's Sparrow Point facility in Baltimore. The method varies somewhat from Method 9 found in 40 CFR part 60, appendix A since Method 9 is not directly applicable to fugitive emissions. This particular method was agreed to as part of a consent agreement between EPA, MDE and Bethlehem Steel.

IV. What Is the Visible Emission Limit for the BOF Shop?

According to the SIP revision, visible emissions cannot be greater than 15 percent opacity from the basic oxygen furnace shop roof monitor based on a three observation rolling arithmetic average of the opacity records recorded on each of three (3) calendar days. One exceedance of the 15 percent standard during a calendar year is allowed. However, all further exceedances are violations of the standard.

V. How Often Will Compliance With the Opacity Standard for the BOF Shop Be Determined?

At a minimum, visible emission observations shall be made weekly on three different calendar days during the week.

VI. What Regulations Are Being Removed Because They Are Obsolete?

Regulations pertaining to hearth shops and coke ovens are being removed from COMAR 26.11.10. Coke oven regulations were only applicable to the Bethlehem Steel facility at Sparrows Point. As of March 17, 1999, all coke ovens were being demolished and there are no plans to produce coke at this facility. If new coke ovens are constructed, they would have to comply with Maximum Achievable Control Technology (MACT) requirements and New Source Review (NSR) requirements. Maryland retained some coke oven regulations related to pushing emissions and limiting the sulfur content of coke oven gas pending promulgation of future MACT standards. The limitation on sulfur in coke oven gas that remains in the SIP is technically a relaxation since it allows the use of coke oven gas with a concentration of 1 percent sulfur in the gas instead of 0.3 percent sulfur. Based on the old regulations which are being removed, an old existing facility had to meet the limit of 1 percent sulfur while any new coke oven capacity from a modification or construction of an oven needed to meet the 0.3 percent sulfur limit.

The 1 percent limit that remains is therefore less restrictive. However, as mentioned above there are no operating coke ovens in the state, and it is highly unlikely that any new ovens will be built. If new coke ovens are built, they will need to comply with more recent regulations such as MACT and NSR. NSR requires that new sources demonstrate that good air quality will be maintained. For all practical purposes, this change regarding sulfur in coke oven gas and removal of other coke oven regulations is unlikely to result in any adverse environmental effects. Regarding the open hearth furnace regulations, the only affected facilities are located at the Sparrows Point facility. These furnaces have not operated since 1989 and the company requested that their registration be deleted.

VII. What Are the Environmental Effects of This Action?

By establishing a visible emissions limit for the BOF shop these fugitive particulate emissions are now limited and the opacity standard provides more protection for the environment. Although some of the regulations regarding coke ovens and open hearth furnaces are being removed or modified, this will have no practical effect on the environment since these facilities either do not exist or are officially no longer operating. If new facilities of these types were to be constructed or to restart operations, they would have to comply with more recent environmental regulations of MACT and NSR.

VIII. EPA's Rulemaking Action

We are approving revisions to the Maryland SIP submitted on April 2, 1992 and October 10, 2000. The revisions allow for the use of Supplement 3 of TM-91 for iron and steel facilities, establish an opacity standard for BOF shops, and remove obsolete regulations pertaining to coke ovens and open hearth furnaces from COMAR 26.11.10. We are publishing this action without prior proposal because we view this as a noncontroversial revision and anticipate no adverse comment. However, in a separate document in the “Proposed Rules” section of today's Federal Register, we are publishing a separate document that will serve as the proposal to approve the SIP revision if adverse comments are filed. This rule will be effective on November 6, 2001 without further notice unless we receive adverse comment by October 9, 2001. Should we receive such comments, we will publish a timely withdrawal in the Federal Register informing the public that the rule will not take effect. We will address all public comments in a subsequent final rule based on the proposed rule. We will not institute a second comment period on this action. Any parties interested in commenting must do so at this time. Please note that if EPA receives adverse comment on an amendment, paragraph, or section of this rule and if that provision may be severed from the remainder of the rule, EPA may adopt as final those provisions of the rule that are not the subject of an adverse comment.

IX. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355 (May 22, 2001)). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by November 6, 2001. Filing a petition for reconsideration by the Administrator of this final rule does not affect the finality of this rule for the purposes of judicial review nor does it extend the time within which a petition for judicial review may be filed, and shall not postpone the effectiveness of such rule or action. This action regarding changes to Maryland's control of iron and steel production installations may not be challenged later in proceedings to enforce its requirements. (See section 307(b)(2).)

List of Subjects in 40 CFR Part 52

Environmental protection, Air pollution control, Incorporation by reference, Intergovernmental relations, Particulate matter, Reporting and recordkeeping requirements, Sulfur oxides.

Dated: August 10, 2001.
Donald S. Welsh,
Regional Administrator, Region III.

40 CFR part 52 is amended as follows:

PART 52—[AMENDED]

1. The authority citation for part 52 continues to read as follows:

Authority: 42 U.S.C. 7401 et seq.

Subpart V—Maryland

2. Section 52.1070 is amended by adding paragraph (c)(153) to read as follows:

§ 52.1070 Identification of plan.

* * * * *

(c) * * *

(153) Revisions to the Maryland State Implementation Plan submitted on April 2, 1992 and October 10, 2000 by the Maryland Department of the Environment:

(i) Incorporation by reference.

(A) Letter dated April 2, 1992 from the Maryland Department of the Environment transmitting revisions to the testing and observation procedures for iron and steel production operations

(B) The following revised Maryland provisions, effective February 17, 1992.

(1) Revised COMAR 26.11.10.07.

(2) Technical Memorandum 91-01, Supplement 1—Appendix A, Test Method 5 and Method 8.

(C) Letter dated October 10, 2000 from the Maryland Department of the Environment transmitting revisions to regulations and technical memoranda governing control of iron and steel production operations.

(D) The following revised Maryland provisions, effective November 2, 1998.

(1) Revisions to COMAR 26.11.01.04C(2).

(2) Revisions to the following provisions of COMAR 26.11.10: Paragraphs .02A., .02B(2), .02B(3), .03A(2)(a) through (c), .03A(2)(e), .03B [introductory paragraph], .03B(5) [formerly cited as .03B(6)], .04B(2) introductory paragraph [combined with provision formerly cited as .04B(2)(a)], .04B(2)(c)(i) and .04B(2)(c)(ii) [formerly cited as .04B(2)(e)(i) and .04B(2)(e)(ii) respectively], .04B(2)(f), .04B(3) through(5), and.05.

(3) Removal of the following provisions: COMAR 26.11.10.01B(1) [existing provision .01B(2) is renumbered as .01B(1)], .03B(1) [existing provisions .03B(2) through(5) are renumbered as .03B(1) through (4)], .03B(7), .03B(8), .03C, .03D, .04A(2) and .04A(3) [existing provision .04A(1) is renumbered as .04A], .04B(2)(b), and .04B(2)(h) [existing provisions .04B(2)(c) through (g) and (i) are renumbered as .04B(2)(a) through (f)].

(4) Addition of COMAR 26.11.10.01B(2) and new .03C.

(5) Technical Memorandum 91-01, Supplement 3—Test Methods 1004, 1004F, 1004G, 1004H, and 1004I.

(E) Revisions to COMAR 26.11.10.03C(1) [formerly cited as .03C], and the addition of Paragraphs .03C(2) and .03C(3); effective October 2, 2000.

(ii) Additional Materials—Remainder of the state submittals pertaining to the revisions listed in paragraph (c)(153) (i) of this section.

[FR Doc. 01-22366 Filed 9-6-01; 8:45 am]

BILLING CODE 6560-50-P